DEPARTMENT OF TRANSPORTATION

Federal Aviation Administration

[Summary Notice No. PE-2001-51]

Petitions for Exemption; Summary of Dispositions of Petitions Issued

AGENCY: Federal Aviation Administration (FAA), DOT.

ACTION: Notice of dispositions of prior petitions.

SUMMARY: Pursuant to FAA's rulemaking provisions governing the application, processing, and disposition of petitions for exemption part 11 of Title 14, Code of Federal Regulations (14 CFR), this notice contains a summary of dispositions of certain petitions previously received. The purpose of this notice is to improve the public's awareness of, and participation in, this aspect of FAA's regulatory activities. Neither publication of this notice nor the inclusion or omission of information in the summary is intended to affect the legal status of any petition or its final disposition.

FOR FURTHER INFORMATION CONTACT: Forest Rawls (202) 267-8033, Sandy Buchanan-Sumter (202) 267-7271, or Vanessa Wilkins (202) 267-8029, Office of Rulemaking (ARM-1), Federal Aviation Administration, 800 Independence Avenue, SW., Washington, DC 20591.

This notice is published pursuant to 14 CFR 11.85 and 11.91.

Issued in Washington, DC, on July 5, 2001.
Gary A. Michel,
Acting, Assistant Chief Counsel for Regulations.

Dispositions of Petitions

Docket No.: FAA-2001-9812.

Petitioner: Red Baron Flyers, Inc.

Section of 14 CFR Affected: 14 CFR 135.251, 135.255, 135.353, and appendixes I and J to part 121.

Description of Relief Sought/Disposition: To permit RBFI to conduct local sightseeing flights at Houston County Airport for the Houston County Airport's Annual Fly-In during June 2001, for compensation or hire, without complying with certain anti-drug and alcohol misuse prevention requirements of part 135.

Grant, 06/19/2001, Exemption No. 7547.

Docket No.: FAA-2001-9627.

Petitioner: Plainwell Pilots' Association.

Section of 14 CFR Affected: 14 CFR 135.251, 135.255, 135.353, and appendixes I and J to part 121.

Description of Relief Sought/Disposition: To permit PPA to conduct local sightseeing flights in the vicinity of Plainwell, Michigan, in July 2001, for compensation or hire, without complying with certain anti-drug and alcohol misuse prevention requirements of part 135.

Grant, 06/18/2001, Exemption No. 7546.

Docket No.: FAA-2001-8742 (previously Docket No. 15078).

Petitioner: U.S. Department of Justice, Drug Enforcement Administration.

Section of 14 CFR Affected: 14 CFR 91.117(a), (b) , and (c), 91.159(a), and 91.209(a)(1) and (b).

Description of Relief Sought/Disposition: To permit DEA to conduct air operations in support of drug law enforcement and drug traffic interdiction.

Grant, 06/15/2001, Exemption No. 5506C.

Docket No.: 29661.

Petitioner: Experimental Aircraft Association, Small Aircraft Manufacturers Association and National Association of Flight Instructors.

Section of 14 CFR Affected: 14 CFR 91.319(a)(1) and (2).

Description of Relief Sought/Disposition: To amend Exemption 7162 by (1) revising Condition No. 1 to include experimental aircraft certificated under § 21.191(c) and (d), and to clarify the maintenance requirements for these aircraft; (2) revising Condition No. 4 to include ground transition training in the required training syllabus; and (3) adding a condition requiring EAA, SAMA, and NAFI members to receive permission from their association before conducting flight training under Exemption No. 7162.

Partial Grant, 06/18/2001, Exemption No. 7162A.

Docket No.: FAA-2001-9364.

Petitioner: Ms. Jacqueline A. Julio.

Section of 14 CFR Affected: 14 CFR 121.311(b).

Description of Relief Sought/Disposition: To permit Ms. Jacqueline A. Julio to be secured by a personal safety belt and held on her caregiver's lap while on board an aircraft although she has reached her second birthday.

Grant, 06/18/2001, Exemption No. 5195E.

Docket No.: FAA-2001-9864.

Petitioner: Crescent City Airport Day Committee.

Section of 14 CFR Affected: 14 CFR 135.251, 135.255, 135.353, and appendixes I and J to part 121.

Description of Relief Sought/Disposition: To permit CCADC to conduct local sightseeing flights at the Crescent City, California, airport for the annual Airport Day Scholarship Fundraising airlifts during July 2001, for compensation or hire, without complying with certain anti-drug and alcohol misuse prevention requirements of part 135.

Grant, 06/21/2001, Exemption No. 7551.

Docket No.: FAA-2001-9438.

Petitioner: Aberdeen Flying Service.

Section of 14 CFR Affected: 14 CFR 135.143(c)(2).

Description of Relief Sought/Disposition: To permit Aberdeen to operate certain aircraft under part 135 without a TSO-C112 (Mode S) transponder installed in the aircraft.

Grant, 06/21/2001, Exemption No. 7550.

Docket No.: FAA-2001-8937 (previously Docket No. 27130).

Petitioner: Era Aviation, Inc.

Section of 14 CFR Affected: 14 CFR 135.143(c)(2).

Description of Relief Sought/Disposition: To permit Era to operate certain aircraft under part 135 without a TSO-C112 (Mode S) transponder installed in the aircraft.

Grant, 06/21/2001, Exemption No. 5718D.

Docket No.: FAA-2001-8870 (previously Docket no. 26160).

Petitioner: Massachusetts Institute of Technology.

Section of 14 CFR Affected: 14 CFR 91.319(c).

Description of Relief Sought/Disposition: To permit MIT to operate certain single-engine and multiengine aircraft certificated in the experimental category, over densely populated areas or in congested airways.

Grant, 06/18/2001, Exemption No. 5210F.

Docket No.: FAA-2001-9923.

Petitioner: EAA Chapter 597.

Section of 14 CFR Affected: 14 CFR 135.251, 235,255, 135.353, and appendixes I and J to part 121.

Description of Relief Sought/Disposition: To permit EAA Chapter 597 to conduct local sightseeing flights at Howard Nixon Memorial Airport, Chesaning, Michigan, in support of Chesaning Sportplane Association and the Young Eagles program during July 2001 and September 2001, for compensation or hire, without complying with certain anti-drug and alcohol misuse prevention requirements of part 135.

Grant, 06/27/2001, Exemption No. 7553.

Docket No.: FAA-2001-8753 (previously Docket No. 28891).

Petitioner: Eagle Helicopters, Inc., dba Kachina Aviation.

Section of 14 CFR Affected: 14 CFR 133.19(a)(3) and 133.51.

Description of Relief Sought/Disposition: To permit Kachina to conduct external-load operations in the United States using its Canadian-registered rotorcraft.

Grant, 06/27/2001, Exemption No. 6638B.

Docket No.: FAA-2001-9976 (previously Docket No. 24427).

Petitioner: United States Ultralight Association, Inc.

Section of 14 CFR Affected: 14 CFR 103.1(a) and (e)(1) through (e)(4).

Description of Relief Sought/Disposition: To permit individuals authorized by USUA to give instruction in powered ultralights that have a maximum empty weight of not more than 496 pounds, have a maximum fuel capacity of not more than 10 U.S. gallons, are not capable of more than 75 knots calibrated airspeed at full power in level flight, and have a power-off stall speed that does not exceed 35 knots calibrated airspeed.

Grant, 06/27/2001, Exemption No. 4274I.

[FR Doc. 01-17244 Filed 7-9-01; 8:45 am]

BILLING CODE 4910-13-M